DEPARTMENT OF THE INTERIOR

Bureau of Land Management

Notice of Intent To Prepare an Amendment to the California Desert Conservation Area (CDCA) Plan

AGENCY: Bureau of Land Management, Interior.

ACTION: Notice of intent.

SUMMARY: This document provides notice that the BLM intends to amend the motorized vehicle route network designations in the CDCA Plan area. The affected area is located in Mono County, California. This designation encompasses approximately 3.7 miles of the existing Furnace Creek Canyon Road, leading up to the Inyo National Forest boundary. The proposed land use plan amendment and associated Environmental Assessment (EA) will consider whether or not to designate this 3.7 mile section of road as an approved route of travel for vehicular access for casual public use. The Land Use Plan amendment and EA will fulfill the requirements set forth in the National Environmental Policy Act (NEPA), the Federal Land Policy and Management Act (FLPMA), BLM planning regulations, and other BLM management policies.

DATES: This notice initiates the public comment period on this plan amendment and associated EA. Comments on issues related to the proposed Furnace Creek Canyon Road designation can be submitted in writing to the address listed below and will be accepted for 30 days from the date of publication of this notice.

ADDRESSES: Submit comments by sending them in writing to the address below or electronically at the Web address below. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, are available for public inspection in their entirety.

FOR FURTHER INFORMATION CONTACT: Hector Villabos, Field Office Manager, Bureau of Land Management, Ridgecrest Field Office, 300 South Richmond Road, Ridgecrest CA 93555, (760) 384-5400.

SUPPLEMENTARY INFORMATION: The land use plan amendment is needed to complete the motorized vehicle access and travel management planning initiated under the CDCA Plan and subsequent amendments for the Northern and Eastern Mojave Desert (NEMO) area. In its May 2004 NEMO Route Designation Amendment, the BLM committed to addressing the Furnace Creek Canyon Road in a “separate planning process.”

In June 2004, Ridgecrest BLM and the Inyo National Forest entered into a Memorandum of Understanding to develop an EA to analyze potential impacts of opening the Furnace Creek Canyon Road to vehicular traffic. As part of the public involvement process, the agencies conducted two meetings (November 6, 2003, in Bishop, California and December 10, 2003, in Dyer, Nevada) and a field trip (October 23, 2003) to solicit comment on the proposed action. Two additional meetings (June 24, 2004, in Bishop, California and June 26, 2004, in Fish Lake Valley, Nevada) and a field trip (June 26, 2004) were held to gather additional scoping comments.

Initial scoping for the EA generated nearly 500 comments. Attendance at the June public meetings was relatively high—over 115 people attended the June 24 meeting in Bishop, while nearly 50 people attended the June 26 meeting in Fish Lake Valley.

The Furnace Creek Road EA, EA-650-2005-121, was released for a 30-day public comment period on January 15, 2005.

Two additional public meetings were held (February 2, 2005, in Bishop, CA and February 3, 2005, in Fish Lake Valley, NV). Approximately 4,500 public comments were received on the EA.

The EA was updated to reflect the public comment received on the project. This Notice of Intent serves as notification to the public that the EA is still available for review and comment at http://www.ca.blm.gov/ridgecrest/.

BLM will incorporate the results of the previous public meetings and public participation in the joint BLM/Forest Service Environmental Assessment published April 24, 2006, in this amendment. The public may submit additional comments at this time or change comments already submitted.

Hector A. Villalobos,
Ridgecrest Field Manager.

[FR Doc. E6-18156 Filed 10-27-06; 8:45 am]

BILLING CODE 4310-40-P